DEPARTMENT OF TRANSPORTATION

Federal Highway Administration

Supplemental Draft Environmental Impact Statement; Duval County, FL

AGENCY: Federal Highway Administration (FHWA), DOT.

ACTION: Notice of intent.

SUMMARY: The FHWA is issuing this notice to advise the public that a Supplemental Draft Environmental Impact Statement (SDEIS) will be prepared for a proposed highway project in Duval County, Florida concerning the Branan Field/Chaffee Road extension and realignment.

FOR FURTHER INFORMATION CONTACT: Mr. Greg Williams, Transportation Engineer, Federal Highway Administration, 227 N Bronough Street, Room 2015, Tallahassee, Florida 32301-2015; Telephone: (850) 942-9650 extension 3038.

SUPPLEMENTARY INFORMATION: The FHWA, in cooperation with the Florida Department of Transportation will prepare a SDEIS to improve Branan Field/Chaffee Road in Duval County. The proposed reconstruction would involve extending and realigning Branan Field/Chaffee Road from 103rd Street to Interstate 10, and the construction of a new interchange at I-10. The study corridor is 6.1 km (3.8 miles) long. The proposed improvements are considered necessary to provide for projected traffic demands.

Alternatives under consideration include: (1) taking no action; and (2) a new four lane alignment between 103rd Street and I-10 located west of Chaffee Road, connecting to I-10 with a new interchange.

Coordination with appropriate Federal, State, and local agencies, and private organizations and citizens who have expressed interest in this proposal has been undertaken and will continue. A series of public meetings have been held and additional meetings are planned for the future in Duval County. In addition, a public hearing will be held. Public notice will be given of the time and place of the meetings and hearing. The Draft SEIS will be made available for public and agency review and comment. An interagency coordination meeting was held June 29, 2000. There are no plans to holding a formal scoping meeting.

To ensure that the full range of issues related to the proposed action are addressed and all significant issues identified, comments, and suggestions are invited from all interested parties. Comments or questions concerning this proposed action and the DSEIS should be directed to the FHWA at the above address.

(Catalog of Federal Domestic Assistance Program Number 20.205, Highway Research, Planning and Construction. The regulations implementing Executive Order 12372 regarding intergovernmental consultation on Federal programs and activities apply to this program.)

Issued on: February 12, 2002.
J. Chris Richter,
Director of Engineering and Operations, Tallahassee, Florida.

[FR Doc. 02-4008 Filed 2-20-02; 8:45 am]

BILLING CODE 4910-22-M